OFFICE OF THE UNITED STATES TRADE REPRESENTATIVE

Andean Trade Preference Act (ATPA), as Amended: Notice Regarding Eligibility of Bolivia

AGENCY: Office of the United States Trade Representative.

ACTION: Notice.

SUMMARY: This notice announces the President's proposed action to suspend Bolivia's designation as a beneficiary country under the Andean Trade Preference Act (ATPA), as amended, and the Andean Trade Promotion and Drug Eradication Act of 2002 (ATPDEA), based on the Bolivian government's failure to meet the programs' counternarcotics cooperation criteria. The President has directed the U.S. Trade Representative to publish this notice and, in accordance with the statute, the U.S. Trade Representative seeks public comment and will hold a public hearing on the proposed action. Comments must be submitted in accordance with the requirements set forth below.

DATES: The deadline for submission of comments is October 31, 2008. The hearing will be held on October 23, 2008.

ADDRESSES: Submit comments by electronic mail to FR0812@ustr.eop.gov.

Submissions by facsimile: Gloria Blue, Executive Secretary, Trade Policy Staff Committee, Office of the United States Trade Representative, (202) 395-6143. The public is strongly encouraged to submit documents electronically rather than by facsimile. (See requirements for submissions below.)

FOR FURTHER INFORMATION CONTACT: Bennett M. Harman, Deputy Assistant U.S. Trade Representative for Latin America, at (202) 395-9446.

SUPPLEMENTARY INFORMATION: The ATPA (19 U.S.C. 3201 et seq.), as renewed and amended by the ATPDEA (Pub. L. 107-210), the Andean Trade Preferences Extension Act (Pub. L. 109-432), and the Andean Trade Preferences Extension Act (Pub. L. 110-191) provides trade benefits for countries that have been designated by the President as beneficiary countries. The ATPDEA expanded the tariff benefits available to beneficiary countries of ATPA to certain articles, including certain textile and apparel products. Bolivia is currently a beneficiary country for purposes of the ATPA and ATPDEA. The President may withdraw or suspend the designation of a country as a beneficiary country or withdraw, suspend, or limit the application of duty-free treatment to any eligible article if the President determines that as a result of changed circumstances, the country is not satisfying the statutory eligibility criteria. At least 30 days before taking one of the aforementioned actions, the President must publish a notice in the Federal Register of the action the President proposes to take; during this 30-day period, the USTR is required to accept public comments and hold a public hearing on the proposed action.

1. Eligibility Criteria

As noted above, Bolivia currently receives preferential tariff treatment under ATPA and ATPDEA. Pursuant to 19 U.S.C. 3202(d), in deciding whether to designate any country as a beneficiary country under ATPA, the President is required to take into account inter alia:

(11) whether such country has met the narcotics cooperation certification criteria set forth in section 481(h)(2)(A) of the Foreign Assistance Act of 1961 for eligibility for United States assistance.

In addition, among the criteria set forth in 19 U.S.C. 3203(b)(6)(B) that the President is required to take into account in deciding whether to designate a country as eligible for the expanded benefits under ATPDEA is:

(v) The extent to which the country has met the counternarcotics certification criteria set forth in section 490 of the Foreign Assistance Act of 1961 (22 U.S.C. 2291j) for eligibility for United States assistance.

On September 15, 2008, pursuant to section 706(2)(A) of the Foreign Relations Authorization Act, the President designated Bolivia as a country that has failed demonstrably during the previous 12 months to adhere to its obligations under international counternarcotics agreements and to take the measures set forth in section 489(a)(1) of the Foreign Assistance Act of 1961.

2. Public Comments and Hearing

USTR invites written comments and/or oral testimony of interested persons on the proposed suspension of Bolivia's designation as a beneficiary country under the Andean Trade Preference Act, as amended and the Andean Trade Promotion and Drug Eradication Act. Written comments must be received no later than October 31, 2008. A hearing will be held on October 23, 2008, at 10 a.m., in Rooms 1 and 2 at 1724 F Street, NW., Washington, DC. If necessary, the hearing will continue on the next day.

Persons wishing to testify orally at the hearing must provide written notification of the intention by noon, October 16, 2008. The notification should include: (1) The name, address and telephone number of the person presenting the testimony; and (2) a short (one or two paragraph) summary of the presentation. A copy of the testimony must accompany the notification. Remarks at the hearing should be limited to no more than five minutes to allow for possible questions from the Trade Policy Staff Committee.

All documents should be submitted in accordance with the instructions in section 3 below.

3. Requirements for Submissions

Comments must be submitted, in English, to the Andean Subcommittee of the Trade Policy Staff Committee (TPSC) as soon as possible, but not later than 5 p.m., October 31, 2008.

In order to facilitate prompt processing of submissions, USTR strongly recommends that comments be set out in digital files attached to e-mails transmitted to the following address: FR0812@ustr.eop.gov. If you are unable to provide comments by e-mail, submissions may be made by facsimile.

Comments should be provided in a single copy and must not exceed 30 single-spaced standard letter-size pages in 12-point type or a digital file size of three megabytes. E-mails should include the following subject line: “Review of Bolivia's Designation as a Beneficiary Country Under the ATPA and ATPDEA.” The transmittal message or cover letter accompanying a submission must be set out exclusively in the digital file attached to the e-mail transmission—not in the message portion of e-mail—and must include the sender's name, organization name, address, telephone number and e-mail address.

Digital files must be submitted in one of the following formats: WordPerfect (.WPD), Adobe (.PDF), MSWord (.DOC), or text (.TXT) files. Comments may not be submitted as electronic image files or contain embedded images, e.g., “.JPG”, “.TIF”, “.BMP”, or “.GIF”. Spreadsheet data may be submitted as Excel files, formatted for printing on 8½ x 11 inch paper. To the extent possible, any data accompanying the submission should be set out in the same file as the submission itself, and not in a separate file.

If a submission contains business confidential information that the submitter wishes to protect from public disclosure, the confidential submission must be marked “BUSINESS CONFIDENTIAL” at the top and bottom of each page. In addition, the submission must be accompanied by a non-confidential version that indicates, with asterisks, where confidential information was redacted or deleted. The top and bottom of each page of the non-confidential version must be marked either “PUBLIC VERSION” or “NON-CONFIDENTIAL”. Business confidential comments that are submitted without the required markings or that are not accompanied by a properly marked non-confidential version as set forth above may not be accepted or may be treated as public documents.

The digital file name assigned to any business confidential version of a submission should begin with the characters “BC-”, and the file name of the public version should begin with the characters “P-”. The “P-” or “BC-” should be followed by the name of the person (government, company, union, association, etc.) making the submission.

Public versions of all documents relating to this review will be available for review approximately two weeks after the relevant due date by appointment in the USTR public reading room, 1724 F Street, NW., Washington, DC. Appointments may be made from 9:30 a.m. to noon and 1 p.m. to 4 p.m., Monday through Friday, by calling (202) 395-6186.

Carmen Suro-Bredie,
Chairman, Trade Policy Staff Committee.

[FR Doc. E8-23136 Filed 9-30-08; 8:45 am]

BILLING CODE 3190-W8-P